DEPARTMENT OF COMMERCE

National Oceanic and Atmospheric Administration

RIN: 0648-XL73

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on December 9-10, 2008. The Council will convene on Tuesday, December 9, 2008, from 9 a.m. to 5 p.m., and the Administrative Committee will meet from 5:15 p.m. to 6 p.m., on that same day. The Council will reconvene on Wednesday, December 10, 2008, from 9 a.m. to 5 p.m., approximately.

ADDRESSES: The meetings will be held at the Marriott Frenchman's Reef & Morning Star Hotel, 5 Estate Bakkeroe, St. Thomas, U.S.V.I.

FOR FURTHER INFORMATION CONTACT: Caribbean Fishery Management Council, 268 Munoz Rivera Avenue, Suite 1108, San Juan, Puerto Rico 00918-1920; telephone: (787) 766-5926.

SUPPLEMENTARY INFORMATION: The Council will hold its 129th regular Council meeting to discuss the items contained in the following agenda:

December 9, 2008, 9 a.m. to 5 p.m.

Call to Order

Adoption of Agenda

Consideration of the 128th Council Meeting Verbatim Transcription

Executive Director's Report

Bajo de Sico Scoping Meeting Results

Queen Conch Manual - Final Report

Nassau Grouper Initiative Report

-Nassau Grouper Workshop Report

-WECAFC

-Aquaculture Project in Colombia

Scientific and Statistical Committee (SSC) National Workshop

ACLs National Guidelines Update

December 9, 2008, 5:15 p.m. to 6 p.m.

Administrative Committee Meeting

-Advisory Panel (AP)/SSC/Habitat AP Membership

-Budget 2008/09

-SOPPs Amendment(s)

-Other Business

December 10, 2008, 9 a.m. to 5 p.m.

PARFISH Update

Lion Fish Update

Enforcement Reports

-Puerto Rico - DNER

-U.S. Virgin Islands - DPNR

-NOAA/NMFS

-U.S. Coast Guard

Administrative Committee Recommendations

Meetings Attended by Council Members and Staff

PUBLIC COMMENT PERIOD (5-minute presentations)

Other Business

Next Council Meeting

The meetings are open to the public, and will be conducted in English. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/or other auxiliary aids, please contact Mr. Miguel A. Rolon, Executive Director, Caribbean Fishery Management Council, 268 Munoz Rivera Avenue, Suite 1108, San Juan, Puerto Rico 00918-1920; telephone: (787) 766-5926, at least 5 days prior to the meeting date.

Dated: November 13, 2008.
Tracey L. Thompson,
Acting Director, Office of Sustainable Fisheries, National Marine Fisheries Service.

[FR Doc. E8-27333 Filed 11-17-08; 8:45 am]

BILLING CODE 3510-22-S